COMMISSION ON CIVIL RIGHTS

Notice of Cancellation of Public Meeting of the Maine Advisory Committee

AGENCY: Commission on Civil Rights.

ACTION: Notice; cancellation of meeting.

SUMMARY: The U.S. Commission on Civil Rights published a document in the Federal Register of September 16, 2016, concerning the announcement of a meeting on October 18, 2016. That meeting has been cancelled.

FOR FURTHER INFORMATION CONTACT: Barbara de la Viez, 202-376-7533.

Correction

In the Federal Register of September 16, 2016, in FR Doc. 2016-22334, correct the Dates caption to read:

DATES: Tuesday, November 15, 2016; Tuesday, December 20, 2016; Tuesday, January, 17, 2017 and Tuesday, February 21, 2017.

Dated: October 13, 2016.
David Mussatt,
Supervisory Chief, Regional Programs Unit.

[FR Doc. 2016-25219 Filed 10-18-16; 8:45 am]

BILLING CODE 6335-01-P